SMALL BUSINESS ADMINISTRATION

[Disaster Declaration #15274 and #15275; Texas Disaster Number TX-00487]

Presidential Declaration Amendment of a Major Disaster for the State of Texas

AGENCY: U.S. Small Business Administration.

ACTION: Amendment 2.

SUMMARY: This is an amendment of the Presidential declaration of a major disaster for the State of Texas (FEMA-4332-DR), dated 08/25/2017.

Incident: Hurricane Harvey.

Incident Period: 08/23/2017 and continuing.

DATES: Issued on 08/30/2017.

Physical Loan Application Deadline Date: 10/24/2017.

Economic Injury (EIDL) Loan Application Deadline Date: 05/25/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for the State of Texas, dated 08/25/2017, is hereby amended to include the following areas as adversely affected by the disaster:

Primary Counties (Physical Damage and Economic Injury Loans):

Colorado, Fayette, Hardin, Jasper, Jefferson, Montgomery, Newton, Orange, Sabine, San Jacinto, Waller

Contiguous Counties (Economic Injury Loans Only):

Texas: Angelina, Bastrop, Caldwell, Gonzales, Grimes, Lee, San Augustine, Shelby, Trinity, Tyler, Walker, Washington

Louisiana: Beauregard, Calcasieu, Cameron, Sabine, Vernon

All other information in the original declaration remains unchanged.

(Catalog of Federal Domestic Assistance Number 59008)

James E. Rivera,
Associate Administrator for Disaster Assistance.

[FR Doc. 2017-19022 Filed 9-7-17; 8:45 am]

BILLING CODE 8025-01-P